DEPARTMENT OF AGRICULTURE

Office of Advocacy and Outreach

[FOA No.: OAO-0010]

Outreach and Assistance for Socially Disadvantaged Farmers and Ranchers and Veteran Farmers and Ranchers Program

Catalog of Federal Domestic Assistance (CFDA) No.: 10.443.

AGENCY: Office of Advocacy and Outreach, USDA.

ACTION: Funding Opportunity Announcement (FOA).

Catalog of Federal Domestic Assistance (CFDA) No.: 10.443.

SUMMARY: This notice announces the availability of funds and solicits applications from eligible entities to compete for financial assistance through the Outreach and Assistance for Socially Disadvantaged Farmers and Ranchers and Veteran Farmers and Ranchers Program (hereinafter known as the “2501 Program”).

The overall goal of the 2501 Program is to assist socially disadvantaged and veteran farmers and ranchers in owning and operating farms and ranches while increasing their participation in agricultural programs and services provided by the U.S. Department of Agriculture (USDA). This program will assist eligible community-based and non-profit organizations, higher education institutions, and tribal entities in providing outreach and technical assistance to socially disadvantaged and veteran farmers and ranchers.

DATES: Proposals must be received by July 29, 2016, at 11:59 p.m. EST, at www.grants.gov. Proposals received after this deadline will not be considered for funding.

ADDRESSES: How to File a Complaint of Discrimination: To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410, Fax: (202) 690-7442, Email: program.intake@usda.gov.

FOR FURTHER INFORMATION CONTACT:

Agency Contact

U.S. Department of Agriculture, DM—Office of Advocacy and Outreach, Attn: Kenya Nicholas, Program Director, Whitten Building, Room 520-A, 1400 Independence Avenue SW., Washington, DC 20250, Phone: (202) 720-6350, Fax: (202) 720-7704, Email: OASDVFR2016@osec.usda.gov.

Persons with Disabilities: Persons who require alternative means for communication (Braille, large print, audiotape, etc.), should contact USDA's TARGET Center at (202) 720-2600 (voice and TDD).

SUPPLEMENTARY INFORMATION:

Funding/Awards: The total funding potentially available for this competitive opportunity is $8.4 million. The Office of Advocacy and Outreach (OAO) will award new grants from this announcement, subject to availability of funds and the quality of applications received. All applications will be considered new projects and applicants will compete based on their organization's entity type (e.g., nonprofit organization, higher education institution), as described below. The maximum amount of requested federal funding for projects shall not exceed $200,000. Projects that are part of multi-year initiatives will only be funded for one year and will be eligible to compete for additional funding in subsequent years.

Funding will be awarded based on peer competition within the three categories described below along with the amount of funding OAO anticipates awarding to organizations within each category. OAO reserves the discretion to allocate funding between the three categories based upon the number and quality of applications received. There is no commitment by OAO to fund any particular application or to select a specific number of awardees within each category.

1. Category #1: Eligible entities described in Sections III.A.2, III.A.3, and III.A.4 (1890 Land Grant colleges and universities, 1994 Alaska Native and American Indian Tribal colleges and universities, and Hispanic-Serving colleges and universities).

2. Category #2: Eligible entities described in Sections III.A.1 and III.A.6 (i.e., nonprofit organizations, community-based organizations, including a network or a coalition of community-based organizations, Indian tribes (as defined in 25 U.S.C. 450b), and national tribal organizations).

3. Category #3: Eligible entities described in Sections III.A.5 and III.A.7 (i.e., all other institutions of higher education and other organizations or institutions, including those that received funding under this program before January 1, 1996).

Contents of This Announcement

I. Funding Opportunity Description

II. Award Information

III. Eligibility Information

IV. Proposal and Submission Information

V. Application Review Information

VI. Award Administration Information

I. Funding Opportunity Description

A. Background

OAO is committed to ensuring that socially disadvantaged and veteran farmers and ranchers are able to equitably participate in USDA programs. Differences in demographics, culture, economics, and other factors preclude a single approach to identifying solutions that can benefit our underserved farmers and ranchers. Community-based and non-profit organizations, higher education institutions, and eligible tribal entities can play a critical role in addressing the unique difficulties they face and can help improve their ability to start and maintain successful agricultural businesses. With 2501 Program funding, organizations can extend our outreach efforts to connect with and assist socially disadvantaged and veteran farmers and ranchers and to provide them with information on available USDA resources.

1. The 2501 Program was authorized by the Food, Agriculture, Conservation, and Trade Act of 1990. The Food, Conservation, and Energy Act of 2008 expanded the authority of the Secretary of Agriculture (the Secretary) to provide awards under the program and transferred the administrative authority to OAO. The 2014 Farm Bill further expanded the program to include outreach and assistance to veterans. The 2501 Program extends USDA's capacity to work with members of farming and ranching communities by funding projects that enhance the equitable participation of socially disadvantaged and veteran farmers and ranchers in USDA programs. It is OAO's intention to build lasting relationships between USDA, awardee organizations, and socially disadvantaged and veteran farmers and ranchers.

2. Organizations may only submit one proposal for funding.

B. Scope of Work

The 2501 Program provides funding to eligible organizations for training and technical assistance projects designed to assist socially disadvantaged and veteran farmers and ranchers in owning and operating viable agricultural enterprises. Proposals must be consistent with requirements stated in 7 U.S.C. 2279(a)(2). Under this statute, “outreach and technical assistance shall be used exclusively:

(A) To enhance coordination of the outreach, technical assistance, and education efforts authorized under agriculture programs; and

(B) To assist the Secretary in:

(i) Reaching current and prospective socially disadvantaged farmers or ranchers and veteran farmers or ranchers in a linguistically appropriate manner; and

(ii) improving the participation of those farmers and ranchers in Department programs, as reported under section 2279-1 of this title”.

Proposal applications from eligible entities must address two or more of the following priority areas:

1. Assist socially disadvantaged or veteran farmers and ranchers in owning and operating successful farms and ranches;

2. Improve participation among socially disadvantaged or veteran farmers and ranchers in USDA programs;

3. Build relationships between current and prospective farmers and ranchers who are either socially disadvantaged or veterans and USDA's local, state, regional, and National offices;

4. Introduce agriculture-related information to socially disadvantaged or veteran farmers and ranchers through innovative training and technical assistance techniques; and

5. Introduce agricultural education targeting socially disadvantaged youth and/or socially disadvantaged beginning farmers and workers, including but not limited to StrikeForce and Promise Zone areas.

To encourage information sharing and to build capacity among awardees, the OAO may require Project Directors to attend an annual training conference that can be expensed with awarded grant funds not to exceed $1,000 for up to two authorized grantee personnel. The conference will allow awardees to share ideas and lessons learned, provide training on performance and financial reporting requirements, and provide information on USDA programs and services. In addition, Project Directors will have an opportunity to make contacts and gather information on best practices.

C. Anticipated Outputs (Activities), Outcomes (Results), and Performance Measures

1. Outputs (Activities). The term “output” means an outreach, educational component or assistance activity, task, or associated work product related to improving the ability of socially disadvantaged and veteran farmers and ranchers to own and operate farms and ranches, assistance with agriculture related activities, or guidance for participation in USDA programs. Outputs may be quantitative or qualitative but must be measurable during the period of performance.

Examples of outputs from the projects to be funded under this announcement may describe an organization's activities and their participants such as: Number of workshops or meetings held and number of participants attending; frequency of services or training delivered, and to whom; and/or development of products, curriculum, or resources provided. Other examples include but are not limited to, the following:

a. Number of socially disadvantaged and veteran farmers or ranchers served;

b. number of conferences or training sessions held and number of socially disadvantaged and veteran farmers and ranchers who attended;

c. type and topic of educational materials distributed at outreach events;

d. creation of a program to enhance the operational viability of socially disadvantaged and veteran farmers and ranchers;

e. number of completed applications submitted for consideration for USDA programs; or

f. activity that supports increased participation of socially disadvantaged farmers and ranchers and veteran farmers and ranchers in USDA programs.

Creation of progress and final reports will be required, as specified in Section VI, Subsection D, “Reporting Requirement.”

2. Outcomes (Results). The term “outcome” means the difference or effect that has occurred as a result from carrying out an activity, workshop, meeting, or from delivery of services related to a programmatic goal or objective. Outcomes refer to the final impact, change, or result that occurs as a direct result of the activities performed in accomplishing the objectives and goals of your project. Outcomes may refer to results that are agricultural, behavioral, social, or economic in nature. Outcomes may reflect an increase in knowledge or skills, a greater awareness of available resources or programs, or actions taken by stakeholders as a result of learning.

Project Directors will be required to document anticipated outcomes that are funded under this announcement which should include but are not limited to:

a. Increase in participation in USDA programs among socially disadvantaged and veteran farmers and ranchers;

b. increase in receptiveness of socially disadvantaged and veteran farmers and ranchers to outreach efforts through effective communication;

c. increase in economic stability of socially disadvantaged and veteran farmers and ranchers within a defined geographic area;

d. increase in community marketing and sales opportunities for the products of socially disadvantaged and veteran farmers and ranchers; or

e. increase use of resource conservation and sustainability practices among socially disadvantaged and veteran farmers and ranchers.

3. Performance Measures. Performance measures are tied to the goals or objectives of each activity and ultimately the overall purpose of the project. They provide insight into the effectiveness of proposed activities by indicating areas where a project may need adjustments to ensure success. Applicants must develop performance measure expectations which will occur as a result of their proposed activities. These expectations will be used as a mechanism to track the progress and success of a project. Project performance measures should include statements such as: Whether workshops or technical assistance will meet the needs of farmers or ranchers in the service area and why; how much time will be spent in group training or individual hands-on training of farmers and ranchers in the service area; or whether activities will meet the demands of stakeholders. Project performance measures must include the assumptions used to make those estimates.

Consider the following questions when developing performance measurement statements:

• What is the measurable short-term and long-term impact the project will have on servicing or meeting the needs of stakeholders?

• How will the organization measure the effectiveness and efficiency of their proposed activities to meet their overall goals and objectives?

II. Award Information

A. Statutory Authority

The statutory authority for this action is 7 U.S.C. 2279, as amended, which authorizes award funding for projects designed to provide outreach and assistance to socially disadvantaged and veteran farmers and ranchers.

B. Expected Amount of Funding

The total estimated funding expected to be available for awards under this competitive opportunity is $8.4 million. Funding will be awarded based on peer competition within the three categories listed below. OAO reserves the discretion to allocate funding between the categories based upon the number and quality of applications received. There is no commitment by OAO to fund any particular application or to make a specific number of awards within each category.

1. Category #1: Eligible entities described in Sections III.A.2, III.A.3, and III.A.4 (1890 Land Grant colleges and universities, 1994 Alaska Native and American Indian Tribal colleges and universities, and Hispanic-Serving colleges and universities). OAO anticipates making awards totaling at least $2 million for Category #1 applicants.

2. Category #2: Eligible entities described in Sections III.A.1 and III.A.6 (i.e., nonprofit organizations, community-based organizations, including a network or a coalition of community-based organizations, Indian tribes (as defined in 25 U.S.C. 450b), and National tribal organizations). OAO anticipates making awards totaling at least $2 million for Category #2 applicants.

3. Category #3: Eligible entities described in Sections III.A.5 and III.A.7 (i.e., all other institutions of higher education and other organizations or institutions, including those that received funding under this program before January 1, 1996). OAO anticipates making awards totaling at least $1 million for Category #3 applicants.

C. Project Period

The performance period for projects selected from this solicitation will not begin prior to the effective award date and may not exceed one (1) year. Projects that are part of multi-year initiatives will only be funded for one year and will be eligible to compete for additional funding in subsequent years.

D. Award Type

Funding for selected projects will be in the form of a grant which must be fully executed no later than September 30, 2016. The anticipated Federal involvement will be limited to the following activities:

1. Approval of awardees' final budget and statement of work accompanying the grant agreement;

2. Monitoring of awardees' performance through quarterly and final financial and performance reports; and

3. Evaluation of awardees' use of federal funds through desk audits and on-site visits.

III. Eligibility Information

A. Eligible Entities

1. Any community-based organization, network, or coalition of community-based organizations that:

• Demonstrates experience in providing agricultural education or other agricultural-related services to socially disadvantaged and veteran farmers and ranchers;

• provides documentary evidence of work with, and on behalf of, socially disadvantaged and veteran farmers and ranchers during the 3-year period preceding the submission of a proposal for assistance under this program; and

• does not or has not engaged in activities prohibited under Section 501(c)(3) of the Internal Revenue Code of 1986.

2. An 1890 or 1994 institution of higher education (as defined in 7 U.S.C. 7601).

3. An American Indian tribal community college or an Alaska Native cooperative college.

4. A Hispanic-Serving Institution of higher education (as defined in 7 U.S.C. 3103).

5. Any other institution of higher education (as defined in 20 U.S.C. 1001) that has demonstrated experience in providing agricultural education or other agricultural-related services to socially disadvantaged farmers and ranchers.

6. An Indian tribe (as defined in 25 U.S.C. 450b) or a National tribal organization that has demonstrated experience in providing agricultural education or other agriculturally-related services to socially disadvantaged farmers and ranchers.

7. All other organizations or institutions that received funding under this program before January 1, 1996, but only with respect to projects that the Secretary considers are similar to projects previously carried out by the entity under this program.

B. Cost-Sharing or Matching

Matching is not required for this program.

C. Threshold Eligibility Criteria

Applications from eligible entities that meet all criteria will be evaluated as follows:

1. Proposals must comply with the submission instructions and requirements set forth in Section IV of this announcement. Pages in excess of the page limitation will not be considered.

2. Proposals must be received through www.grants.gov as specified in Section IV of this announcement on or before the proposal submission deadline. Applicants will receive an electronic confirmation receipt of their proposal from www.grants.gov.

3. Proposals received after the submission deadline will not be considered. Please note that in order to submit proposals organizations must create accounts in www.grants.gov and in the System for Awards Management (SAM.gov); both of which could take up to 3 days or longer. Therefore, it is strongly suggested that organizations begin this process immediately. Registering early could prevent unforeseen delays in submitting your proposal.

4. Proposals must address a minimum of two or more of the priority areas that provide outreach and assistance to socially disadvantaged or veteran farmers and ranchers as stated in section I, subsection B, Scope of Work.

IV. Proposal and Submission Information

A. System for Award Management (SAM)

It is a requirement to register for SAM (www.sam.gov). There is NO fee to register for this site.

Per 2 CFR part 200, applicants are required to: (i) Be registered in SAM before submitting an application; (ii) provide a valid unique entity identifier in the application; and (iii) continue to maintain an active SAM registration with current information at all times during which the organization has an active Federal award or an application or plan under consideration by a Federal awarding agency. The OAO may not make a Federal award to an applicant until the applicant has complied with all applicable unique entity identifier and SAM requirements and, if an applicant has not fully complied with the requirements by the time the OAO is ready to make a Federal award, OAO may determine that the applicant is not qualified to receive a Federal award and use that determination as a basis for making a Federal award to another applicant.

SAM contains the publicly available data for all active exclusion records entered by the Federal government identifying those parties excluded from receiving Federal contracts, certain subcontracts, and certain types of Federal financial and non-financial assistance and benefits. All applicant organizations and their key personnel will be vetted through SAM.gov to ensure they are in compliance with this requirement and not on the Excluded Parties List.

B. Obtain Proposal Package From www.grants.gov

Applicants may download individual grant proposal forms from www.grants.gov. For assistance with www.grants.gov, please consult the Applicant User Guide at (http://grants.gov/assets/ApplicantUserGuide.pdf).

Applicants are required to submit proposals through www.grants.gov. Applicants will be required to register through www.grants.gov in order to begin the proposal submission process. We strongly suggest you initiate this process immediately to avoid processing delays due to registration requirements.

Federal agencies post funding opportunities on www.grants.gov. The OAO is not responsible for submission issues associated with www.grants.gov. If you experience submission issues, please contact www.grants.gov support staff for assistance.

Proposals must be submitted by July 29, 2016, via www.grants.gov at 11:59 p.m. EST. Proposals received after this deadline will not be considered.

C. Content of Proposal Package Submission

All submissions must contain completed and electronically signed original application forms, as well as a Narrative Proposal, as described below:

1. Forms. The forms listed below can be found in the proposal package at www.grants.gov.

• Standard Form (SF) 424, Application for Federal Assistance;

• Standard Form (SF) 424A, Budget Information-Non-Construction Programs; and

• Standard Form (SF) 424B, Non-Construction Programs.

• Key Contacts Form

• Form AD-1047 Certification Regarding Debarment and Suspension

• Certification Regarding Lobbying

• Form AD-1049 Certification Regarding Drug-Free Workplace

2. Attachments. The elements listed below are required for all grant proposals and are included in the proposal package at www.grants.gov as fillable PDF templates. Applicants must download and complete these attachments and save the completed PDF files to the application submission portal at www.grants.gov. Attachment 1 will consist of the Project Summary Page and the Project Narrative. Attachment 2 will consist of the Budget Narrative. Attachment 3 will consist of Appendices. NOTE: Please number each page of each attachment and indicate the total number of pages per attachment (i.e., 1 of 10, 2 of 10, etc.).

• Attachment 1: Project Summary Page and Project Narrative. The proposal must contain a Project Summary Page, which should not be numbered and must follow immediately after the SF Form 424, Application for Federal Assistance form. The Project Summary Page is limited to 250 words. It should be a synopsis or summary of the project's goals and objectives. It should be written as a CONCISE notice or advertisement about your organization, including its name; two or three sentences describing your project; the project's geographic service area; and the Project Director's name, email address, and telephone number. No points will be given or subtracted for the Project Summary Page. This will allow OAO to quickly glean pertinent information on the project. Organizations can expect that the Project Summary Page may be used in its entirety or in part for media purposes to include press releases, in informational emails to potential stakeholders or partners, to provide upper echelons of government with a snapshot of an organization, and for demographic purposes. Please do not restate the objectives of the 2501 Program (i.e. “to provide outreach and assistance for socially disadvantaged farmers and ranchers and veterans farmers and ranchers”); it should reflect the goal of your specific project.

• Attachment 1: Project Narrative. In 15 double-spaced pages or less, using one-inch margins and 12-point font, indicate the organization that will conduct the project, the geographical area served by the project, and the priority areas that will be addressed by the project. Please be concise and note, members of the reviewing panel will not be required to review proposals of organizations which have deviated from these formatting specifications or have used alternative font sizes and margins.

○ Discuss the merits of your proposed project. Specifically, proposals must: (1) Define and establish the existence of the needs of socially disadvantaged farmers and ranchers, veteran farmers and ranchers, or both in the defined geographic area; (2) identify the experience of the organization(s) taking part in the project; (3) identify the geographic area of service; and (4) discuss the potential impact of the project.

○ Identify the qualifications, relevant experience, education, and publications of each Project Director or collaborator. Also, specifically address the work to be completed by key personnel and the roles and responsibilities within the scope of the proposed project. This includes past completed projects and financial management experiences.

○ In an organized format, create a timeline for each task to be accomplished during the period of performance timeframe. Relate each task to one of the four priority areas in Section I, Subsection B. The timeline is part of the 15 page limit but can be as simple as a one-page description of tasks.

• Attachment 2: Budget Narrative. The Budget Narrative should identify and describe the costs associated with the proposed project, including sub-awards or contracts and indirect costs. An eligible entity that has never received a negotiated indirect cost rate may elect to charge a de minimis rate of 10 percent of modified total direct costs in accordance with 2 CFR 200.414(f). Organizations with previously approved indirect cost rates must submit their negotiated indirect cost rate agreement (NICRA) with this application in Attachment 3. Other funding sources may also be identified in this attachment. Each cost indicated must be reasonable, allocable, necessary and allowable under the Federal Cost Principles (2 CFR part 200, subpart E-Cost Principles) in order to be funded. The Budget Narrative should not exceed two pages and is not part of the Project Narrative.

• Attachment 3: Appendices. Organizations may submit Letters of Commitment, Letters of Support, or other supporting documentation which is encouraged but not required. Applicants can consolidate all supplemental materials into one additional attachment. Do not include sections from other attachments as an Appendix.

Checklist of documents to submit through www.grants.gov:

1. SF-424 Application for Federal Assistance

Note: Ensure this is completed with accuracy; particularly email addresses and phone numbers. OAO may not be able to reach you if your information is incorrect.

2. Project Summary Page (no more than 250 words).

3. Project Narrative including a timeline (no more than 15 pages, 12 point font, and 1 inch margins only).

Note: To ensure fairness and uniformity for all applicants, Project Narratives not conforming to this stipulation may not be considered.

4. SF-424A Budget Information-Non-Construction Programs.

5. Budget Narrative (not to exceed 2 pages).

6. Key Contacts Form

Note: Please ensure these are completed with accuracy; individuals not on applicants' Key Contact Form will not receive information about or access to data that concerns the applicant organization.

7. Form AD-1047 Certification Regarding Debarment, Suspension and Other Responsibility Matters.

8. Certification Regarding Lobbying.

9. Form AD-1049 Certification Regarding Drug-Free Workplace Requirements (Grants).

10. Letters of Support, Letters of Recommendation, proof of 501(c)(3) status, résumés of key personnel, negotiated indirect cost rate agreements, etc.

Best practice notes:

* Only submit Adobe pdf file format documents to www.grants.gov.

* Name your documents with short titles to prevent issues with uploading/downloading documents from www.grants.gov. Documents with long names may not always upload/download properly.

* WHERE TO UPLOAD ATTACHMENTS ON YOUR APPLICATION: There are three blocks on the application where you may upload attachments: after block 14, after block 15, and after block 16. All attachments may be uploaded after each of these blocks on the tab that states: “Add Attachments.”

D. Sub-Awards and Partnerships

Funding may be used to provide sub-awards, which includes using sub-awards to fund partnerships; however, the awardee must utilize at least 50 percent of the total funds awarded, and no more than three subcontracts will be permitted. All sub-awardees must comply with applicable requirements for sub-awards. Applicants must provide documentation of a competitive bidding process for services, contracts, and products, including consultant contracts, and conduct cost and price analyses to the extent required by applicable procurement regulations.

The OAO awards funds to one eligible applicant as the awardee. Please indicate a lead applicant as the responsible party if other organizations are named as partners or co-applicants or members of a coalition or consortium. The awardee is accountable to the OAO for the proper expenditure of all funds.

E. Submission Dates and Times

The closing date and time for receipt of proposal submissions is July 29, 2016, at 11:59 p.m., EST via www.grants.gov. Proposals received after the submission deadline will be considered late without further consideration. Proposals must be submitted through www.grants.gov without exception. Additionally, organizations must also be registered in the SAM (www.sam.gov). Creating an account for both Web sites can take several days to receive account verification and/or PIN numbers. Please allow sufficient time to complete access requirements for these Web sites. Proposal submission deadline is firm.

F. Confidential Information

In accordance with 2 CFR part 200, the names of entities submitting proposals, as well as proposal contents and evaluations, will be kept confidential to the extent permissible by law. If an applicant chooses to include confidential or proprietary information in the proposal, it will be treated in accordance with Exemption 4 of the Freedom of Information Act (FOIA). Exemption 4 of the FOIA protects trade secrets, and commercial and financial information obtained from a person that is privileged or confidential.

G. Pre-Submission Proposal Assistance

1. The OAO may not assist individual applicants by reviewing draft proposals or providing advice on how to respond to evaluation criteria. However, the OAO will respond to questions from individual applicants regarding eligibility criteria, administrative issues related to the submission of the proposal, and requests for clarification regarding the announcement. Any questions should be submitted to OASDVFR2016@osec.usda.gov.

2. The OAO will post questions and answers relating to this funding opportunity during its open period on the Frequently Asked Questions (FAQs) section of our Web site: http://www.outreach.usda.gov/grants/. The OAO will update the FAQs on a weekly basis and conduct webinars on an as-needed basis.

V. Application Review Information

A. Evaluation Criteria

Only eligible entities whose proposals meet the threshold criteria in Section III of this announcement will be reviewed according to the evaluation criteria set forth below. Applicants should explicitly and fully address these criteria as part of their proposal package. Each proposal will be reviewed under the regulations established under 2 CFR part 200.

A review panel that is independent of OAO will use a point system to rate each proposal, awarding a maximum of 100 points (95 points, plus an additional 5 discretionary points for programmatic priorities). Each proposal will be reviewed by at least two members of the Independent Review Panel who will review and score all applications submitted. The Independent Review Panel will numerically score and rank each application within the three categories and funding decisions will be based on their recommendations to the designated approving official. Final funding decisions will be made by the designated approving official.

B. Evaluation Criteria for New Grants Proposals

Criteria | Points
1. Project Narrative: Under this criterion, your proposal will be evaluated to the extent to which the narrative includes a well-conceived strategy for addressing the requirements and objectives stated in: Section I, Part B, Scope of Work, (see page 4, Project Narrative, for further clarification) identifying a minimum of two or more of the priority areas | 45
In addition, the OAO may award up to five discretionary points (one point each) for the following Secretary priorities and initiatives: | 5
• Projects assisting beginning farmers and ranchers (as defined in 7 U.S.C. 3319f);
• Projects to assist StrikeForce states/communities as identified through the StrikeForce Initiative;
• Projects that propose to assist with USDA's commitment to Tribal organizations with successful demonstration on implementation methods encompassing Tribal participation and buy-in;
• Projects located in rural Promise Zones;
• Projects with an emphasis on partnering with other USDA agencies, other Federal, state, and local entities, to maximize areas of coverage for outreach (i.e., research, small and beginning farmers, and feeding programs, etc.);
2. Programmatic Capability: Under this criterion, applicants will be evaluated based on their ability to successfully complete and manage the proposed project taking into account the applicant's: Organizational experience, its staff's expertise and/or qualifications, and the organization's resources. The organization must also clearly document its historical successes and future plans to continue assisting socially disadvantaged and veteran farmers and ranchers | 10
3. Financial Management Experience: Under this criterion, applicants will be evaluated based on their demonstrated ability to successfully complete and manage the proposed project taking into account the applicants' past performance in successfully completing and managing prior funding agreements identified, Section I, Part C, Performance Measures (see page 6). Past performance documentation on successfully completed projects may be at the Federal, state, or local community level. Per 2 CFR 200.205, if an applicant is a prior recipient of Federal awards, their record in managing that award will be reviewed, including timeliness of compliance with applicable reporting requirements and conformance to the terms and conditions of previous Federal awards | 5
4. Budget: Under this criterion, proposed project budget will be evaluated to determine whether costs are reasonable, allowable, allocable and necessary to accomplish the proposed goals and objectives; and whether the proposed budget provides a detailed breakdown of the approximate funding used for each major activity. Additionally, indirect costs must be appropriately applied (see page 11). For a list of unallowable costs, please see 2 CFR part 200, subpart E | 15
5. Tracking and Measuring: Under this criterion, the applicant's proposal will be evaluated based upon clearly documenting a detailed plan for tracking and measuring their progress toward achieving the expected project outputs and outcomes as stated in Section I, part C, Performance Measures (see pages 4 and 5). Applicants should indicate how they intend to clearly document the effectiveness of their project in achieving proposed thresholds or benchmarks in relation to stated goals and objectives. For example, state how your organization plans to connect socially disadvantaged and veteran farmers and ranchers with USDA agricultural programs. Applicants must clearly demonstrate how they will ensure timely and successful completion of the project with a reasonable time schedule for execution of the tasks associated with the projects | 20

C. Selection of Reviewers

All applications will be reviewed by members of an Independent Review Panel. Panel members are selected based upon training and experience in relevant fields including outreach, technical assistance, cooperative extension services, civil rights, education, statistical and ethnographic data collection and analysis, and agricultural programs and are drawn from a diverse group of experts to create a balanced panel.

VI. Award Administration Information

A. Award Notices

Proposal Notifications and Feedback

1. The successful applicant will be notified by the OAO via telephone, email, or postal mail. The notification will advise the applicant that its proposed project has been evaluated and recommended for award. The notification will be sent to the Project Manager listed on the SF-424, Application for Federal Assistance. Project Managers should be the Authorized Organizational Representative (AOR) and authorized to sign on behalf of the organization. It is imperative that this individual is responsive to notifications by the OAO. If the individual is no longer in the position, please notify the OAO immediately to submit the new contact for the application. The award notice will be forwarded to the grantee for execution and must be returned to the OAO grants officer, who is the authorizing official. Once grant documents are executed by all parties, authorization to begin work will be given. At a minimum, this process can take up to 30 days from the date of notification.

2. The OAO will also send notification to unsuccessful applicants via email or postal mail. The notification will be sent to the Project Manager listed on the SF-424, Application for Federal Assistance. Project Managers should be the Authorized Organizational Representative (AOR).

3. Within ten days of award status notification, unsuccessful applicants may request feedback on their application. Feedback will be provided as expeditiously as possible. Feedback sessions will be scheduled contingent upon the number of requests. 7 CFR 2500.026.

B. Administrative and National Policy Requirements

All awards resulting from this solicitation will be administered in accordance with the Office and Management and Budget (OMB) Uniform Administrative Requirements, Cost Principles, and Audit Requirements for Federal Awards codified at 2 CFR part 200, as supplemented by USDA implementing regulations at 2 CFR parts 400 and 415, and OAO Federal Financial Assistance Programs—General Award Administrative Procedures, 7 CFR part 2500.

In compliance with its obligations under Title VI of the Civil Rights Act of 1964 and Executive Order 13166, it is the policy of the OAO to provide timely and meaningful access for persons with Limited English Proficiency (LEP) to projects, programs, and activities administered by Federal grant recipients. Recipient organizations must comply with these obligations upon acceptance of grant agreements as written in OAO's Terms and Conditions. Following these guidelines is essential to the success of our mission to improve access to USDA programs for socially disadvantaged and veteran farmers and ranchers.

C. Data Universal Numbering System, System for Award Management, and Central Contractor Registry Registration

In accordance with the Federal Funding Accountability and Transparency Act (FFATA) and the USDA implementation, all applicants must obtain and provide an identifying number from Dun and Bradstreet's (D&B) Data Universal Numbering System (DUNS). Applicants can receive a DUNS number, at no cost, by calling the toll-free DUNS Number request line at 1-866-705-5711, or visiting the D&B Web site at www.dnb.com.

In addition, FFATA requires applicants to register with the Central Contractor Registry (CCR) and the System for Award Management (SAM). This registration must be maintained and updated annually. Applicants can register or update their profile, at no cost, by visiting the SAM Web site at www.sam.gov which will satisfy both the CCR and SAM registration requirements. This is a requirement to register for www.grants.gov.

D. Reporting Requirement

In accordance with 2 CFR part 200, the following reporting requirements will apply to awards provided under this FOA. The OAO reserves the right to revise the schedule and format of reporting requirements as necessary in the award agreement.

1. Quarterly Progress Reports and Financial Reports will be required.

• Quarterly Progress Reports. The awardee must submit the OMB-approved Performance Progress Report form (SF-PPR, Approval Number: 0970-0334). For each report, the awardee must complete fields 1 through 12 of the SF-PPR. To complete field 10, the awardee is required to provide a detailed narrative of project performance and activities as an attachment, as described in the award agreement. Quarterly progress reports must be submitted to the designated OAO official within 30 days after the end of each calendar quarter.

• Quarterly Financial Reports. The awardee must submit the Standard Form 425, Federal Financial Report. For each report, the awardee must complete both the Federal Cash Transaction Report and the Financial Status Report sections of the SF-425. Quarterly financial reports must be submitted to the designated OAO official within 30 days after the end of each calendar quarter.

2. Final progress and financial reports will be required upon project completion. The final progress report should include a summary of the project or activity throughout the funding period, achievements of the project or activity, and a discussion of problems experienced in conducting the project or activity. The final financial report should consist of a complete SF-425 indicating the total costs of the project. Final progress and financial reports must be submitted to the designated OAO official within 90 days after the completion of the award period.

Signed this 20th day of June 2016.
Christian Obineme,
Associate Director, Office of Advocacy and Outreach.

[FR Doc. 2016-15124 Filed 6-24-16; 8:45 am]

BILLING CODE P